ENVIRONMENTAL PROTECTION AGENCY

[EPA-HQ-OPP-2009-0744; FRL-8802-7]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by registrants to voluntarily cancel certain pesticide registrations.

DATES: Unless a request is withdrawn by January 19, 2010 for these registration for which the registrants have requested a waiver of the 180-day comment period, orders will be issued canceling these registrations. The Agency will consider withdrawal requests postmarked no later than January 19, 2010. Comments must be received on or before January 19, 2010 for these registrations, where the 180-day comment period has been waived.

ADDRESSES: Submit your comments and your withdrawal request, identified by docket identification (ID) number EPA-HQ-OPP-2009-0744, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001: Written Withdrawal Request, Attention: Barbara Briscoe, Pesticide Re-evaluation Division (7508P).

• Delivery: OPP Regulatory Public Docket (7502P), Environmental Protection Agency, Rm. S-4400, One Potomac Yard (South Bldg.), 2777 S. Crystal Dr., Arlington, VA. Deliveries are only accepted during the Docket Facility’s normal hours of operation (8:30 a.m. to 4 p.m., Monday through Friday, excluding legal holidays). Special arrangements should be made for deliveries of boxed information. The Docket Facility telephone number is (703) 305-5805.

Instructions: Direct your comments to docket ID number EPA-HQ-OPP-2009-0744. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Barbara Briscoe, Pesticide Re-evaluation Division, Office of Pesticide Programs, Environmental Protection Agency, 1200 Pennsylvania Ave., NW., Washington, DC 20460-0001; telephone number: (703) 308-8177; e-mail address: briscoe.barbara@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

This notice announces receipt by the Agency of applications from registrants to cancel 194 pesticide products registered under section 3 or 24(c) of FIFRA. These registrations are listed in sequence by registration number (or company number and 24(c) number) in Table 1 of this unit:

Table 1.—Registrations with Pending Requests for Cancellation
Registration No. | Product Name | Chemical Name
000088-00024 | Hyponex Bug Spray for House Plants | Piperonyl Butoxide
000192-00183 | Ortho House Plant Insect Killer | Resmethrin
000228-00195 | Riverdale DP-4 Amine | 2,4-DP
000228-00243 | Riverdale Cattle Spray | Piperonyl Butoxide
000228-00245 | Riverdale Insect Killer | Piperonyl Butoxide
000228-00246 | Riverdale Home and Garden Insect Spray | Piperonyl Butoxide
000228-00247 | Riverdale Pyrethrin Concentrate | Piperonyl Butoxide
000228-00250 | Riverdale Patio & Yard Outdoor Fogger | Piperonyl Butoxide
000239-02421 | Ortho Outdoor Insect Fogger | Resmethrin
000239-02429 | Ortho Hi Power Indoor Insect Fogger | Piperonyl Butoxide
000239-02498 | Ortho Rose & Flower Insect Killer | Piperonyl Butoxide
000239-02527 | Ortho Pet Flea & Tick Spray | Piperonyl Butoxide
000239-02565 | Ortho Pet Shampoo | Piperonyl Butoxide
000239-02566 | Ortho Pet Flea & Tick Powder | Piperonyl Butoxide
000239-02567 | Flea-B-Gon Carpet Dust | Piperonyl Butoxide
000239-02624 | HI Power Indoor Insect Fogger Formula V | Piperonyl Butoxide
000239-02676 | Flea-B-Gon Total Fogger | Permethrin
000239-02678 | Ortho Ant Killer Spray | Permethrin
000478-00126 | Real Kill Automatic Indoor Fogger II | Permethrin
000499-00339 | Whitmire Wasp and Hornet Spray | Resmethrin
000499-00352 | Wasp & Hornet Spray #3 | Resmethrin
000499-00455 | ULD BP-3000-R Resmethrin Concentrate | Resmethrin
000538-00177 | Scotts Houseplant Insecticide | Pyrethrins
000538-00243 | Yard & Garden Insect Control | Piperonyl Butoxide
000538-00244 | Next Generation Crawling Insect Control | Piperonyl Butoxide
000538-00245 | Next Generation Yard & Garden Concentrate Insect Control | Piperonyl Butoxide
000572-00316 | Rockland Mill-Mist “S” | Resmethrin
000769-00317 | Superior Oil 70 | Aliphatic Solvents
000769-00682 | SMCP SBP- 1382 Insecticide Spray 0.10% | Resmethrin
000769-00683 | SMCP SBP-1382 ® Insecticide Spray 0.05 | Resmethrin
000769-00684 | SMCP SBP-1382 ® Insecticide Spray 0.25 | Resmethrin
000769-00701 | SMCP SBP-1382 Liquid Spray 0.25% | Resmethrin
000769-00702 | 24.3% SBP-1382-2 E.C. | Resmethrin
000769-00703 | 40% SBP-1382 Mosquito Adulticide ULV Oil Base Concentrate | Resmethrin
000769-00704 | SMCP SBP-1382 ULV Insecticide | Resmethrin
000769-00710 | SMCP Household Insect Spray | Resmethrin
000769-00805 | Superior Point Two Fly Spray | Resmethrin
000769-00870 | Greenhouse & Plantscape EC2 Resmethrin Insect Spray | Resmethrin
000769-00877 | Platt Whitefly Spray for Indoor Plants and Outdoor Ornamentals | Resmethrin
000769-00882 | Resmethrin Mosquito Concentrate 40 | Resmethrin
000769-00884 | Pratt Resmethrin 3 Insect Spray | Resmethrin
000769-00885 | Pratt Wasp & Yellow Jacket Spray | Resmethrin
000769-00893 | Pratt Plant Spray | Resmethrin
000769-00900 | House & Yard Insect Spray | Resmethrin
000769-00938 | Warner Enterprises Wasp & Hornet III | Resmethrin
000769-00939 | Warner Enterprises Ornamental Insecticide Concentrate I | Resmethrin
000829-00075 | SA 50 25% Malathion Wettable Spray Concentrate | Malathion
001021-00056 | Pyrocide Intermediate 54 | Piperonyl Butoxide
001021-00230 | Pyrocide Intermediate 57 | Piperonyl Butoxide
001021-00838 | Clearmol Concentrate 6643 | Piperonyl Butoxide
001021-00988 | Pyrocide Intermediate 6878 | Piperonyl Butoxide
001021-01091 | Evergreen Emulsifiable 60-6 | Piperonyl Butoxide
001021-01095 | Pyrocide Intermediate 6982 | Piperonyl Butoxide
001021-01126 | D-Trans Intermediate 1860 | Piperonyl Butoxide
001021-01517 | Pyrocide Concentrate 7352 | Piperonyl Butoxide
001021-01627 | Evercide Intermediate 2531 | MGK-264
001021-01646 | Piperonyl Butoxide OS | Piperonyl Butoxide
001021-01654 | ETOC Concentrate 2634 | Piperonyl Butoxide
001021-01679 | Multicide Pressurized Roach Spray 27341 | MGK-264
001021-01681 | Multicide Total Release Aerosol 2782 | MGK-264
001021-01685 | Multicide Total Release Aerosol 27372 | MGK-264
001021-01695 | Evercide Concentrate 2654 | MGK-264
001021-01696 | Evercide Carpet and Surface Spray 2655 | MGK-264
001021-01697 | Evercide Roach and Ant Spray 2622 | MGK-264
001021-01705 | Pyrocide Home & Garden Spray | Piperonyl Butoxide
001021-01786 | Pyrocide Indoor/Outdoor Insect Killer 73525 | Piperonyl Butoxide
001021-01792 | Evercide Carpet and Surface Spray 28011 | MGK-264
001021-01822 | Turbocide Pest Control System with PYROCIDE 1-5 | Piperonyl Butoxide
002217-00068 | Pyrenone Multi-Purpose Knockout Spray | Piperonyl Butoxide
002217-00246 | Pyrenone Dairy Cattle and Stock Spray | Piperonyl Butoxide
002217-00476 | Horse Spray Ready to Use | Piperonyl Butoxide
002217-00497 | Gordon's Institutional Mist Spray | Piperonyl Butoxide
002217-00520 | Gordon's Malathion Contains 5 LBS Malathion Per Gallon | Malathion
002217-00523 | Gordon's Institutional Area Spray | Piperonyl Butoxide
002217-00578 | Pyrenone Multi-Purpose Knockout Spray | Piperonyl Butoxide
002217-00582 | Gordon's Industrial Emulsifiable Concentrate Stable (1) | Piperonyl Butoxide
002217-00583 | Gordon's Industrial Emulsifiable Concentrate Stable(2) | Piperonyl Butoxide
002217-00584 | Gordon's Industrial Spray | Piperonyl Butoxide
002596-00137 | Hartz One Spot Repellant for Dogs and Puppies | Permethrin
002596-00146 | Hartz REF. 101 | Permethrin
002724-00507 | Speer Home & Garden Insect Spray with 25% SPB-1382 | Resmethrin
002724-00509 | Speer Insect Killer With .25% SBP-1382 | Resmethrin
002724-00510 | Speer Indoor-Outdoor Insect Spray with 35& SBP-1382 | Resmethrin
002724-00515 | Speer Yard & Patio Fogger | Resmethrin
002724-00516 | Speer Flea Spray for Dogs & Cats | Resmethrin
002724-00520 | Speer Food Plant Pressurized Insect Spray | Resmethrin
002724-00524 | Speer Cedar Scented Moth Proofer | Resmethrin
002724-00525 | Speer Aqueous Pressurized Spray Professional Strength | Resmethrin
002724-00526 | Speer House & Garden Insect Spray | Resmethrin
002724-00528 | Speer Aqueous Pressurized Spray | Resmethrin
002724-00534 | Speer 2% Transparent Emulsion Concentrate | Resmethrin
002724-00535 | Speer 0.35% Transparent Emulsion Spray | Resmethrin
002724-00546 | Speer Wasp & Hornet Killer | Resmethrin
002724-00695 | SBP/PY/PB Water-based Ready-to-use Liquid Spray | Resmethrin
002935-00418 | Metaldehyde 4 Bait | Metaldehyde
003468-00009 | Supreme Oil Insecticide | Aliphatic Solvents
004822-00122 | Johnson Yardmaster Foam Insect Killer | Resmethrin
004822-00136 | Raid Formula II Insect Killer | Resmethrin
004822-00139 | Raid Household Flying Insect Killer I | Resmethrin
004822-00140 | Raid Formula IV Flying Insect Killer | Resmethrin
004822-00141 | Raid Flying Insect Killer Formula III | Resmethrin
004822-00162 | Raid Household Flying Insect Killer Formula 2 | Resmethrin
004822-00163 | Raid House and Garden Bug Killer all Seasons Formula | Resmethrin
004822-00165 | Raid House and Garden Bug Killer V | Resmethrin
004822-00181 | Raid House and Garden Bug Killer Formula 8 | Resmethrin
004822-00183 | Raid Formula 5249 Multi-Purpose Bug Killer | Resmethrin
004822-00186 | Raid Formula D39 Multi-Purpose Bug Killer | Resmethrin
004822-00187 | Johnson Wax Raid Liquid Flying Insect Killer | Resmethrin
004822-00188 | Raid Liquid Flying Insect Killer I | Resmethrin
004822-00214 | Raid Gypsy Moth and Japanese Beetle Killer | Resmethrin
004822-00286 | Raid Formula 6 Flying Insect Killer | Resmethrin
004822-00287 | Raid Flying Insect Killer Formula 8 | Resmethrin
004822-00288 | Raid Flying Insect Killer Formula 7 | Resmethrin
004822-00304 | Raid Flying Insect Killer Formula 10 | Resmethrin
004822-00363 | Piperonyl Butoxide Technical for Manufacturing Purposes Only | Piperonyl Butoxide
005178-00009 | Fish Mosquito Coils | Pyrethrins
005481-00035 | Pyrenone Fly Spray | Pyrethrins
005481-00041 | DDVP 1 Spray Insecticide Concentrate | Dichlorvos (DDVP)
005481-00064 | Pyrethrin 101 Concentrate | Pyrethrins
005481-00201 | DDVP 80% Fogging Concentrate | Dichlorvos (DDVP)
005481-00202 | DDVP 50% Fogging Concentrate | Dichlorvos (DDVP)
005481-00203 | DDVP 5 TM Fogging Concentrate | Dichlorvos (DDVP)
005481-00207 | DDVP 15 Fogging Insect Control | Dichlorvos (DDVP)
005481-00208 | DDVP 15% Spray Concentrate | Dichlorvos (DDVP)
005481-00340 | Alco Bug Spray Pressurized | Pyrethrins
005887-00037 | Black Leaf Dormant Spray | Aliphatic Solvents
005887-00101 | Black Leaf Yard & Patio Fogger | Resmethrin
005887-00113 | Roach & Ant Pressurized Spray | Resmethrin
005887-00114 | Black Leaf House & Garden Pressurized Spray | Resmethrin
005887-00115 | Black Leaf Fly & Mosquito Pressurized Spray | Resmethrin
005887-00117 | Black Leaf Cockroach & Ant Killer | Resmethrin
005887-00119 | Black Leaf Wasp & Hornet Pressurized Spray | Resmethrin
005887-00122 | Black Leaf White Fly Pressurized Spray | Resmethrin
005887-00130 | Black Leaf Cockroach & Ant Killer | Resmethrin
006218-00021 | Summit Mushroom House Fogging Insecticide | Dichlorvos (DDVP)
006218-00057 | Summit 5% DDVP | Dichlorvos (DDVP)
008329-00011 | Malathion E-5 | Malathion
008329-00014 | Clarke ULV Mosquitocide 731 | Resmethrin
008329-00028 | Pyrethrins 3610-MO | Pyrethrins
008329-00029 | ULV Mosquitocide 731 Plus | Resmethrin
008329-00038 | Biomist 4 + 20 Spray | Piperonyl Butoxide
008329-00041 | Biomist 12 + 60 ULV | Piperonyl Butoxide
008329-00052 | Flak 10-10 | Piperonyl Butoxide
008329-00053 | Flak 50-50 | Piperonyl Butoxide
008329-00054 | Oblique | Resmethrin
008329-00055 | Oblique III | Resmethrin
008329-00063 | Biomist 2 + 2 ULV | Piperonyl Butoxide
008378-00059 | Shaw’s Permethrin 50 Lawn Insect Granules | Permethrin
008660-00054 | Fogging Concentrate Pyrenone-Type | Piperonyl Butoxide
008660-00058 | Pyrenone 20 New | Piperonyl Butoxide
008660-00077 | Patterson's Greenup Organic Bug Dust | Piperonyl Butoxide
008660-00084 | Vertagreen Indoor Plant Spray | Piperonyl Butoxide
008660-00119 | Vertagreen Rose & Flower Insect Killer | Piperonyl Butoxide
008845-00057 | Hot Shot Improved Fly and Mosquito Insect-Killer Formula II 5 | MGK-264
008845-00103 | Rid-A-Flea Shampoo | MGK-264
008845-00122 | Hot Shot Roach and Ant Killer-Formula PRWB-1 | Pyrethrins
008845-00123 | Hot Shot Fogger V | Pyrethrins
009086-00008 | Revenge Farm and Home Fly Bomb Insect Fogger | Pyrethrins
010900-00063 | 876 Institutional Insecticide | Resmethrin
019713-00302 | Green Devil Wettable Powder | Malathion
019713-00359 | Best 4 Servis Brand 25% Malathion Wettable Powder | Malathion
032970-00006 | Pactor-Fume Up and Atem Water Based Insecticide | MGK-264
034704-00859 | Takedown 50 WP Cotton Defoliant | Thidiazuron
039609-00001 | Schultz House Plants & Gardens Insect Spray | Piperonyl Butoxide
042697-00033 | Safer Soap and Pyrethrum Ready-To-Use | Pyrethrins
046515-00008 | Super K-Gro Tomato & Vegetable insect Spray | Pyrethrins
046515-00009 | Super K-Gro Rose & Floral Insect Killer | Piperonyl Butoxide
046515-00020 | Super K-Gro Pet, Flea and Tick Spray | Piperonyl Butoxide
046515-00023 | Super K-Gro Whitefly and Mealybug Insect Killer | Piperonyl Butoxide
046515-00027 | Super K-Gro House Plant Insect Killer | Piperonyl Butoxide
046515-00029 | Super K-Gro Whitefly & Mealybug Killer Spray | Piperonyl Butoxide
046515-00038 | K-Rid Roach and Flea Fogger | MGK-264
046515-00039 | K-Ant and Roach Killer | MGK-264
046515-00047 | Flying Insect Killer 3 | Piperonyl Butoxide
046515-00049 | House & Garden Bug Killer | Piperonyl Butoxide
046515-00052 | Roach & Flea Fogger | Piperonyl Butoxide
047000-00137 | Selco Vapona Insecticide Fogging Solution | Dichlorvos (DDVP)
049585-00011 | Super K-Gro Pyrenone Garden Dust | Piperonyl Butoxide
050932-00005 | Concern Multi-Purpose Insect Killer Ready to Use | Pyrethrins
059144-00001 | Malathion 50% Insect Spray | Malathion
070506-00197 | Cuprofix MZ Disperss | Copper Sulfate
070627-00042 | Johnson Wax Professional Total Release Fogger | Pyrethrins
070627-00043 | Flea Killer IGR and Adulticide | Pyrethrins
070627-00052 | Raid Commercial Insect Killer | Pyrethrins
072155-00064 | Tetraperm (0.15-0.15-0.75) Yard and Patio Fogger | Piperonyl Butoxide
075395-00001 | SK-Enspray 99 | Aliphatic Solvents
075395-00002 | SK-Enspray N | Aliphatic Solvents
075402-00002 | Hilo Premises Spray | Pyrethrins
075402-00003 | Aloe Care Flea & Tick Shampoo | Pyrethrins
083399-00005 | SVP1 | Permethrin
CA 990026 | Temik Brand 15G Aldicarb Pesticide | Aldicarb
CO-990012 | Banvel Herbicide-for Weed Control in Millet | Dicamba
CO-990013 | Banvel Herbicide Aerial Applications | Dicamba
CO-990014 | Banvel Herbicide, preharvest applications in wheat | Dicamba

Unless a request is withdrawn by the registrant within 30 days of publication of this notice, orders will be issued canceling all of these registrations. Users of these pesticides or anyone else desiring the retention of a registration should contact the applicable registrant directly during this 30-day period.

Table 2 of this unit includes the names and addresses of record for all registrants of the products in Table 1 of this unit, in sequence by EPA company number:

Table 2.—Registrants Requesting Voluntary Cancellation
EPA Company No. | Company Name and Address
000088 | Hyponex Corp. 14111 Scotts Lawn Road Marysville, OH 43041
000192 | Value Garden Supply 9100 W. Bloomington Freeway, Suite 113 Bloomington, MN 55431
000228 | Nufarm Americas, Inc. 150 Harvester Dr. Suite 200 Burr Ridge, IL 60527
000239 | The Scotts Group D/B/A/ The Ortho Group P.O. BOX 190 Marysville, OH 43040
000478 | Realex P.O.BOX 142642 St. Louis, MO 63114
000499 | BASF Corporation 3568 Tree Ct Industrial Blvd St. Louis, MO 63114
000538 | The Scotts Company 14111 Scotts Lawn Road Marysville, OH 43041
000572 | Value Garden Supply 9100 W. Bloomington Freeway Suite 113 Bloomington, MN 55431
000769 | Value Garden Supply 9100 W. Bloomington Freeway Suite 113 Bloomington, MN 55431
000829 | Southern Agricultural Insecticides, Inc. P.O. Box 218 Palmetto, FL 34220
001021 | MCLaughlin Gormley King Company 8810 Tenth Avenue North Minneapolis, MN 55427
002217 | PBI/Gordon Corporation 1217 West 12TH Street P.O. BOX 14090 Kansas City, MO 64101
002596 | Hartz Mountain Corporation 400 Plaza Drive Secaucus, NJ 07094
002724 | Wellmark Mountain Corporation 1501 E. Woodfield Road, Suite 200 West Schaumburg, IL 60173
002935 | Wilbur Ellis Company P.O BOX 1286 Fresno, CA 93715
003468 | Schall Chemical Supply, LLC 120 N. Broadway Monte Vista, CO 81144
004822 | S.C. Johnson & Son, Inc. 1525 Howe Street Racine, WI 53403
005178 | Blood Protection Company, LTD Paul A. Keane & Associates P.O. Box 65436 Tucson, AZ 85728
005481 | AMVAC Chemical Corporation 4695 MacArthur Court Suite 1250 Newport Beach, CA 92660
005887 | Value Garden Supply 9100 W. Bloomington Freeway, Suite 113 Bloomington, MN 55431
006218 | Summit Chemical Company Summit Responsible Solutions 235 South Kresson Street Baltimore, MD 21224
008329 | Clark Mosquito Control Products, Inc. P.O. BOX 72197 Roselle, IL 60172
008378 | Knox Fertilizer Company P.O. BOX 248 Knox, IN 46534
008660 | United Industries, Corporation D/B/A Sylorr Plant Corporation. P.O. BOX 142642 ST LOUIS, MO 31140
008845 | Spectrum Group Division of United Industries Corporation P.O. BOX 142642 St. Louis, MO 31140
009086 | Roxide International, Inc. 5927 Paint Bank Road New Castle, VA 24127
010900 | Sherman Williams 101 Prospect Avenue Cleveland, OH 44115
019713 | Drexel Chemical Company 1700 Channel Avenue P.O. BOX 13327 Memphis, TN 38113
032970 | American Cleaning Company 39-30 Review Avenue.. Long Island City, NY 11101
039609 | Schultz Company 13260 Corporation Exchange Drive P.O. BOX 4406 Bridgeton, MO 63044
042697 | Safer, Inc. 69 North Locust Street P.O. BOX 327 Lititz, PA 17543
046515 | Celex Division of United Industries, Corporation P.O. BOX 14642 St. Louis, MO 63114
047000 | Chem-Tech, Ltd 4515 Fleur Dr. #303 Des Moines, IA 50321
049585 | Alljack, Division of United Industries, Corporation P.O. BOX 14642 St. Louis, MO 63114
050932 | Woodstream Corporation 69 North Locust St. P.O. BOX 327 Lititz, PA 17543
070506 | United Phosphorus 630 Freedom Business Center, Suite 402 King of Prussia, PA 19402
070627 | Johnson Diversey, Inc. 8310 16TH ST. P.O. BOX 902 Sturtevant, WI 53177
072155 | Bayer Advanced A Business Unit of Bayer Cropscience, LP 2 T.W. Alexander Dr., P.O. BOX 12014 Research Triangle Park, NC 27709
075395 | SK E&P Company 1300 Post Oak Blvd, Suite 450 Houston, TX 77056
075402 | Boss Pet Products, Inc. 1645 Rockside Road, Suite 200 Maple Heights, OH 44147
083399 | Summit Vetpharm, LLC. 301 Route 17 North Rutherford, NJ 07070
CA 990026 | California Pecan Growers Association P.O. Box 1142 Visalia, CA 93279
CO 990012 | State of Colorado 700 Kipling Street, Suite 4000 Lakewood, CO 80215
CO 990013 | State of Colorado 700 Kipling Street, Suite 4000 Lakewood, CO 80215
CO 990014 | State of Colorado 700 Kipling Street, Suite 4000 Lakewood, CO 80215

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Procedures for Withdrawal of Request

Registrants who choose to withdraw a request for cancellation must submit such withdrawal in writing to the person listed under FOR FURTHER INFORMATION CONTACT, postmarked on or before January 19, 2010. This written withdrawal of the request for cancellation will apply only to the applicable FIFRA section 6(f)(1) request listed in this notice. If the products have been subject to a previous cancellation action, the effective date of cancellation and all other provisions of any earlier cancellation action are controlling. The withdrawal request must also include a commitment to pay any reregistration fees due and to fulfill any applicable unsatisfied data requirements.

V. Provisions for Disposition of Existing Stocks

Existing stocks are those stocks of registered pesticide products which are currently in the United States and which were packaged, labeled, and released for shipment prior to the effective date of the cancellation action. EPA’s existing stocks policy (56 FR 29362) provides that: “If a registrant requests to voluntarily cancel a registration where the Agency has identified no particular risk concerns, the registrant has complied with all applicable conditions of reregistration, conditional registration, and data call ins, and the registration is not subject to a Registration Standard, Label Improvement Program, or reregistration decision, the Agency will generally permit a registrant to sell or distribute existing stocks for 1 year after the cancellation request was received. Persons other than registrants will generally be allowed to sell, distribute, or use existing stocks until such stocks are exhausted.”

Upon cancellation of the pesticides identified in Table 1, EPA anticipates allowing sale, distribution and use as described above. Exception to this general policy will be made in specific cases when more stringent restrictions on sale, distribution, or use of the products or their ingredients have already been imposed, as in a special review action, or where the Agency has identified significant potential risk concerns associated with a particular chemical.

List of Subjects

Environmental protection, Pesticides and pests.

Dated: December 10, 2009.
Richard P. Keigwin, Jr.,
Director, Pesticide Re-evaluation Division, Office of Pesticide Programs.

[FR Doc. E9-30038 Filed 12-17-09; 8:45 am]

BILLING CODE 6560-50-S